DEPARTMENT OF HEALTH AND HUMAN SERVICES

National Institutes of Health

Government-Owned Inventions; Availability for Licensing

AGENCY: National Institutes of Health, Public Health Service, HHS.

ACTION: Notice.

SUMMARY: The inventions listed below are owned by an agency of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301-496-7057; fax: 301-402-0220. A signed Confidential Disclosure Agreement will be required to receive copies of the patent applications.

A System for Delivering Embolic Materials Endovascularly to Patients

Description of Technology: The Public Health Service seeks commercial entities interested in licensing patent rights that pertain to a system for delivering embolic materials endovascularly to patients. The system includes a smart catheter that provides quantitative feedback to a physician during embolotherapy. This includes a detecting portion for measuring flow velocity (e.g., Doppler tip), amount of reflux, and amount of embolic particles (e.g., embolization beads) delivered by the catheter. A graphical user interface displays the measured information in real-time.

Applications:

• Transarterial chemoembolization

• Drug eluting bead

• Intravenous drug delivery

• Drug distribution monitoring

• Real-time imaging

Inventors: Matthew Dreher, Elliot Levy, Karun Sharma, David Tabriz, Peter Guion, Ankur Kapoor, Bradford Wood (all NIHCC).

Patent Status: U.S. Provisional Application No. 61/486,722 filed 16 May 2011 (HHS Reference No. E-184-2011/0-US-01).

Licensing Status: Available for licensing.

Licensing Contact: Michael A. Shmilovich, Esq.; 301-435-5019; shmilovm@mail.nih.gov.

Collaborative Research Opportunity: The NIH Clinical Center, Radiology and Imaging Sciences Department, is seeking statements of capability or interest from parties interested in collaborative research to further develop, evaluate, or commercialize a catheter for quantitative feedback during embolotherapy. Please contact Ken Rose, PhD at 301-435-3132 or rosek@mail.nih.gov for more information.

Liver Segmental Anatomy and Analysis From Vessel and Tumor Segmentation

Description of Technology: The invention is a novel graph-based method for the automated segmentation of tumors and major intra-hepatic blood vessels and identification of the liver anatomical segments. The method allows visualization and risk analysis for interventional planning involving the liver. The method avoids the shortcomings of the traditional graph cuts or intensity-based segmentation methods by including multi-phase enhancement modeling and shape likelihoods. The segmented vessels can be correctly classified into right, middle and left hepatic, and right and left portal veins using a hybrid process that incorporates anatomical information and competitive region growing. Tumors can be detected and segmented using their differential enhancement and shape with accuracy comparable to the reports from the Medical Image Computing and Computer Assisted Intervention (MICCAI) liver tumor segmentation competition. Furthermore, a vessel tracker allowed fitting planes to the major hepatic vasculature and identifying the liver segments according to the Couinaud atlas. The automated method can be used in conjunction with manual and automatic liver segmentations to perform enhanced visualization for diagnosis and planning of interventions.

Applications: To assist in the visualization, diagnosis and planning of interventional procedures involving the liver.

Advantages:

• The method avoids the shortcomings of the traditional segmentation methods by including multi-phase enhancement modeling and shape likelihoods.

• Tumors are segmented with accuracy comparable to the reports from MICCAI liver tumor segmentation competition.

• Liver segments according to the Couinaud Atlas are automatically identified.

• The automated method allows the enhanced visualization of the liver for diagnosis and planning of interventions.

Development Status: The algorithm and software of the method are fully developed.

Inventors: Marius G. Linguraru and Bradford J. Wood (NIHCC).

Patent Status: HHS Reference No. E-178-2011/0—Software/Research Tool. Patent protection is not being pursued for this technology.

Licensing Status: A software package encompassing the method is available for licensing.

Licensing Contacts:

• Uri Reichman, PhD, MBA; 301-435-4616; UR7a@nih.gov

• Michael Shmilovich, Esq.; 301-435-5019; shmilovm@mail.nih.gov

Collaborative Research Opportunity: The NIH Clinical Center, Department of Radiology and Imaging Sciences, is seeking statements of capability or interest from parties interested in collaborative research to further develop, evaluate, or commercialize techniques for the enhanced visualization, diagnosis and image-based interventions of the liver. Please contact Ken Rose, PhD at 301-435-3132 or rosek@mail.nih.gov for more information.

MicroRNA-205 for the Treatment and Diagnosis of Parkinson Disease

Description of Technology: Parkinson disease (PD) is a devastating neurodegenerative movement disorder, pathologically characterized by selective loss of dopaminergic (DA) neurons in the substantia nigra pars compacta (SNpc) and the presence of intracytoplasmic inclusions named Lewy bodies and Lewy neurites (Schapira, Baillieres Clin. Neurol. 6:15-36, 1997). Increasing numbers of genes have been identified as a genetic cause of PD (Hardy et al., Ann. Neurol. 60:389-398, 2006), for example, multiple missense mutations in the leucine-rich repeat kinase 2 (LRRK2) gene were recently found to be associated with an autosomal dominant form of familial PD (Paisan-Ruiz et al., Neuron 44:595-600, 2004; Zimprich et al., Neuron 44:601-607, 2004; Zabetian et al., Neurology 65:741-744, 2005). Recent genome-wide association studies (GWAS) also revealed LRRK2, together with SNCA (encoding α-syn) and PARK16, as shared risk loci for PD (Simon-Sanchez et al., Nat. Genet. 41:1308-1312, 2009; Satake et al., Nat. Genet. 41:1303-1307, 2009), indicating a potential contribution of normal LRRK2 protein to the etiology of sporadic PD cases.

Micro-RNAs (miRNAs or miRs) are evolutionarily conserved small non-protein coding transcripts that bind to partially complementary binding sites in the 3' untranslated region (3'-UTR) of target messenger RNAs (mRNAs) and control the translation of their target mRNAs at the post-transcriptional level (Bartel, Cell 116:281-297, 2004). Several miRNAs have been associated with neurodegenerative disease as well as synaptic plasticity, memory formation and developmental cell fate decisions in the nervous system (Hebert and De Strooper, Trends Neurosci. 32:199-206, 2009; Kosik, Nat. Rev. Neurosci. 7:911-920, 2006).

NIH inventors have recently discovered that LRRK2 protein expression is significantly increased in the brain of PD patients, while expression of miR-205 is specifically down-regulated in the same patients. Also, the NIH inventors have discovered that the expression levels of LRRK2 and miR-205 are dynamically regulated and reversely correlated in multiple brain regions and at different ages in mouse brains, indicating that miR-205 plays a regulatory role in LRRK2 protein expression.

Based on these novel findings, the present technology provides for novel methods of treatment of patients suffering from PD disease by modulating the amount of miR-205 in patients by administration of a miR-205 gene product, a vector encoding a miR-205 gene product or an agent that increases expression of miR-205. The present technology also provides for methods of determining the effectiveness of different candidate drugs for the treatment of PD, methods of diagnosing PD, or having an increased susceptibility to developing PD, and an in vitro process for identifying a therapeutic agent for the treatment of PD.

Applications: Therapeutics and diagnostics for PD.

Development Status: Early-stage.

Inventors: Huaibin Cai and Hyun J. Cho (NIA).

Patent Status: U.S. Provisional Application No. 61/430,626 filed 07 Jan 2011 (HHS Reference No. E-209-2010/0-US-01).

Licensing Status: Available for licensing.

Licensing Contact: Suryanarayana Vepa, PhD, J.D.; 301-435-5020; vepas@mail.nih.gov.

Collaborative Research Opportunity: The National Institute on Aging, Transgenics Section, is seeking statements of capability or interest from parties interested in collaborative research to further develop, evaluate, or commercialize microRNA-205 or other reagents for the treatment and diagnosis of Parkinson Disease. Please contact Nicole Guyton, PhD at 301-435-3101 or darackn@mail.nih.gov for more information.

Dated: June 14, 2011.
Richard U. Rodriguez,
Director, Division of Technology Development and Transfer, Office of Technology Transfer, National Institutes of Health.

[FR Doc. 2011-15467 Filed 6-21-11; 8:45 am]

BILLING CODE 4140-01-P